DEPARTMENT OF DEFENSE

Department of the Army; Corps of Engineers

Intent To Prepare an Environmental Impact Statement for the Proposed TransAlta Pit 7 Mine Completion Project at Centralia, Washington

AGENCY: U.S. Army Corps of Engineers, DoD.

ACTION: Notice of intent.

SUMMARY: The U.S. Army Corps of Engineers Seattle District (Corps) and the Washington State Department of Ecology (Ecology) will serve as joint lead agencies in the preparation of an environmental impact statement (EIS) pursuant to the National Environmental Policy Act (NEPA) and State Environmental Policy Act (SEPA) to evaluate proposed approaches to TransAlta Centralia Mining LLC's (TCM) completion of mining in Pit 7, a current mining operation at its Centralia Mine. The Corps will use the EIS in making its decision whether to issue a Section 404 permit under the Clean Water Act. Ecology will use the EIS in making its decision whether to issue a Section 401 Water Quality Certification under the Clean Water Act.

DATES: Submit comments by May 8, 2006. An agency scoping meet for this project will be held on April 18, 2006 from 9:30 a.m. to 1 p.m. at the Washington Department of Ecology 300 Desmond Drive SE., Lacey, Washington. A public scoping meeting will be held on April 18, 2006 from 5 p.m. to 8 p.m. at the Chehalis Courthouse, 351 NW., North Street, Chehalis, Washington.

ADDRESSES: Written comments on the scope of the EIS or requests for information should be sent to Mr. Jonathan Smith at the U.S. Army Corps of Engineers, Seattle Regulatory Branch, Post Office Box 3755, Seattle, Washington 98124-3755, or sent via e-mail to Jonathan.Smith@nws02.usace.army.mil.

FOR FURTHER INFORMATION CONTACT: Mr. Jonathan Smith at the U.S. Army Corps of Engineers, Seattle Regulatory Branch, 4735 E. Marginal Way South, Seattle, Washington 98134, (206) 764-6910, or e-mail Jonathan.Smith@nws02.usace.army.mil. Mr. Mark Cline, at the Washington Department of Ecology, 300 Desmond Drive SE, Lacey, Washington 98503, or e-mail mcli461@ecy.wa.gov.

SUPPLEMENTARY INFORMATION: The Centralia Mine is a surface coal mine that has been operating in Lewis and Thurston Counties near Centralia, Washington since 1970. TCM currently operates the mine under permit WA-0001E, which was last renewed in 2005, from the U.S. Department of the Interior, Office of Surface Mining Reclamation and Enforcement (OSM). TCM's previous Pit 7 mining was authorized by the Corps and Ecology under the Clean Water Act by Nationwide Permit 21 (Surface Coal Mining Activities).

Proposed Action

TCM proposes to complete mining activities at its existing Pit 7 mine by removing an estimated 9.58 million tons of coal during the period of 2007 through 2010. The proposed action would involve continued mining coal at Pit 7 in areas of previous coal extraction, as well as completion of Pit 7 mining activities through an approximately 108-acre area across portions of Packwood Creek to access 6.34 million tons of coal reserves. Coal extracted at the Pit 7 mine would provide much of the fuel for the adjacent power plant operated by TransAlta Centralia Generating (TCG). TCM's sole customer is TCG's 1,404-megawatt (MW) power plant. According to TCM, the facility is capable of providing electricity equivalent to the amount consumed by 750,000 households in the greater Washington region (8% of the power produced in Washington).

As part of its mining activities, TCM proposes to reclaim the site, which would replace and restore impacted streams and wetland acreage and functions. In addition, TCM proposes to provide any additional wetland and stream mitigation that would be needed to replace any lost functions not addressed by the reclamation plan.

Preliminary Alternatives to the Proposed Action

In addition to the Proposed Action, the EIS will evaluate a range of alternatives, including a No Action Alternative (Restrict Mining to Currently Permitted Mine Pits), as well as other alternative sources of coal to provide fuel for the adjacent power plant. The EIS will consider alternatives that may result from comments received during the agency and public scoping period. The EIS will also discuss alternatives considered and eliminated from further detailed study.

EIS Scoping Process

The EIS process begins with the publication of this Notice of Intent. The scoping period will continue for 30 days after publication of this Notice of Intent and will close on May 8, 2006. During the scoping period the Corps and Ecology invite Federal agencies, State and local governments, Native American Tribes, and the public to participate in the scoping process either by providing written comments or by attending one of the public scoping meeting scheduled for April 18, 2006 at the times and locations indicated above. We have identified the following as probable major topics to be analyzed in depth in the Draft EIS: wetland and streams including fish and wildlife habitat functions, surface water quality, surface water drainage and detention effects, mitigation, and cumulative impacts. Both written and oral scoping comments will be considered in the preparation of the Draft EIS. Comments postmarked or received by e-mail after the specified date will be considered to the extent feasible.

The purpose of the scoping meeting is to assist the Corps and Ecology in defining issues, public concerns, alternatives, and the depth to which they will be evaluated in the EIS. The public scoping meeting will begin with a briefing on the proposed Pit 7 Mine Completion Project, the extent of reclamation efforts proposed as part of the project, and the preliminary EIS alternatives. Copies of the meeting handouts will be available to anyone unable to attend by contacting the Corps Seattle District as described above. Following the initial presentation, Corps representatives will answer scope-related questions and accept comments.

EIS Preparation

The Corps has not made a determination of significance as to whether an EIS is required for the proposed project. Development of the Draft EIS will begin after the close of the public scoping period. The Draft EIS is expected to be available for public review in the Fall of 2006.

Other Environmental Review and Consultations

To the fullest extent possible, the EIS will be integrated with analysis and consultation required by the Endangered Species Act of 1973, as amended (Pub. L. 93-205; 16 U.S.C. 1531 et seq.); the Magnuson-Stevens Fishery Conservation and Management Act, as amended (Pub. L. 94-265; 16 U.S.C. 1801, et seq.), the National Historic Preservation Act of 1966, as amended (Pub. L. 89-655; 16 U.S.C. 470, et seq.); the Fish and Wildlife Coordination Act of 1958, as amended (Pub. L. 85-624; 16 U.S.C 742a, et seq. and 661-666c); and the Clean Water Act of 1977, as amended (Pub. L. 92-500; 33 U.S.C. 1251, et seq.); and all applicable and appropriate Executive Orders.

Dated: March 31, 2006.
Michelle Walker,
Chief, Regulatory Branch, Seattle District.

[FR Doc. E6-5083 Filed 4-6-06; 8:45 am]

BILLING CODE 3710-92-P